DEPARTMENT OF TRANSPORTATION

Federal Aviation Administration

14 CFR Part 25

[Docket No.: FAA-2013-0142; Notice No. 25-139]

RIN 2120-AK12

Harmonization of Airworthiness Standards—Gust and Maneuver Load Requirements

Correction

In proposed rule document 2013-12445 appearing on pages 31851-31860 in the issue of Tuesday, May 28, 2013, make the following corrections:

§ 25.341 [Corrected]

1. In the second column, in the twelfth line from the bottom, the entry “Uσρεϕ” should read “Uσref”.

In a correction to the above referenced document, C1-2013-12445, appearing on page 37722, in the issue of Monday, June 24, 2013, make the following correction:

§ 25.341 [Corrected]

2. In the third column, on lines eight and nine the entry “Uσρεϕ” should read: “Uσref”.

[FR Doc. C2-2013-12445 Filed 7-15-13; 8:45 am]

BILLING CODE 1505-01-P